DEPARTMENT OF HEALTH AND HUMAN SERVICES

Centers for Disease Control and Prevention

[60Day-25-0036; Docket No. CDC-2025-0013]

Proposed Data Collection Submitted for Public Comment and Recommendations

AGENCY: Centers for Disease Control and Prevention (CDC), Department of Health and Human Services (HHS).

ACTION: Notice with comment period.

SUMMARY: The Centers for Disease Control and Prevention (CDC), as part of its continuing effort to reduce public burden and maximize the utility of government information, invites the general public and other federal agencies to take this opportunity to comment on a proposed information collection, as required by the Paperwork Reduction Act of 1995. This notice invites comment on the Division of Vital Statistics Proposal for Access to Restricted-Use Data for the National Center for Health Statistics (NCHS). This data collection will be used to assess researcher's requests for access to restricted-use NCHS data for their research projects.

DATES: Written comments must be received on or before August 15, 2025.

ADDRESSES: You may submit comments, identified by Docket No. CDC-2025-0013 by any of the following methods:

• Federal eRulemaking Portal: www.regulations.gov. Follow the instructions for submitting comments.

• Mail: Jeffrey M. Zirger, Information Collection Review Office, Centers for Disease Control and Prevention, 1600 Clifton Road NE, MS H21-8, Atlanta, Georgia 30329.

Instructions: All submissions received must include the agency name and Docket Number. All relevant comments received will be posted without change to www.regulations.gov, including any personal information provided. For access to the docket to read background documents or comments received, go to www.regulations.gov.

Please note: All public comment should be submitted through the Federal eRulemaking portal (www.regulations.gov) or by U.S. mail to the address listed above.

FOR FURTHER INFORMATION CONTACT: To request more information on the proposed project or to obtain a copy of the information collection plan and instruments, contact Jeffrey M. Zirger, Information Collection Review Office, Centers for Disease Control and Prevention, 1600 Clifton Road NE, MS H21-8, Atlanta, Georgia 30329; Telephone: 404-639-7570; Email: omb@cdc.gov.

SUPPLEMENTARY INFORMATION: Under the Paperwork Reduction Act of 1995 (PRA) (44 U.S.C. 3501-3520), federal agencies must obtain approval from the Office of Management and Budget (OMB) for each collection of information they conduct or sponsor. In addition, the PRA also requires federal agencies to provide a 60-day notice in the Federal Register concerning each proposed collection of information, including each new proposed collection, each proposed extension of existing collection of information, and each reinstatement of previously approved information collection before submitting the collection to OMB for approval.

To comply with this requirement, we are publishing this notice of a proposed data collection as described below. The OMB is particularly interested in comments that will help:

1. Evaluate whether the proposed collection of information is necessary for the proper performance of the functions of the agency, including whether the information will have practical utility;

2. Evaluate the accuracy of the agency's estimate of the burden of the proposed collection of information, including the validity of the methodology and assumptions used;

3. Enhance the quality, utility, and clarity of the information to be collected;

4. Minimize the burden of the collection of information on those who are to respond, including through the use of appropriate automated, electronic, mechanical, or other technological collection techniques or other forms of information technology, e.g., permitting electronic submissions of responses; and

5. Assess information collection costs.

Proposed Project

Division of Vital Statistics Proposal for Access to Restricted-Use Data for the National Center for Health Statistics—Existing Collection in use without OMB Approval—National Center for Health Statistics (NCHS), Centers for Disease Control and Prevention (CDC).

Background and Brief Description

Section 306(b)(4) of the Public Health Service (PHS) Act (42 U.S.C. 242k(b)(4)), as amended, authorizes that the Secretary of Health and Human Services (DHHS), acting through NCHS, receive requests for providing data and statistics to the public. NCHS receives requests for restricted-use data from the public through the Division of Vital Statistics Proposal for Access to Restricted-Use Data. This is a request for approval from OMB to collect information via the Division of Vital Statistics proposal over the next three years at an overall burden rate of 600 annual hours.

As part of a comprehensive data dissemination program, the Division of Vital Statistics (DVS), National Center for Health Statistics (NCHS), Centers for Disease Control and Prevention, requires prospective researchers who need access to restricted-use vital statistics data to complete a research proposal. Researchers self-select whether they need access to restricted-use vital statistics data to answer their research questions. The DVS requires the researcher to complete a research proposal so NCHS understands the research proposed, whether restricted-use vital statistics data are appropriate for the research questions, how the data will be used and what data outputs the researcher needs to satisfy their project. The completed proposal is sent to NCHS DVS for adjudication on whether the proposed research is possible.

To capture the information needed to adjudicate researchers' need for access to restricted-use vital statistics data, this request allows for both number of respondents and time per response for a total estimated annual burden total of 600 hours; 1,800 hours for a three-year clearance period. There is no cost to respondents other than their time to complete the proposal. The resulting information will be for NCHS internal use.

Estimated Annualized Burden Hours
Type of respondents | Form name | Number of respondents | Number of responses per respondent | Avg. burden per response (in hrs.) | Total burden (in hrs.)
Researcher | Division of Vital Statistics proposal | 600 | 1 | 1 | 600

Jeffrey M. Zirger,
Lead, Information Collection Review Office, Office of Public Health Ethics and Regulations, Office of Science, Centers for Disease Control and Prevention.

[FR Doc. 2025-10903 Filed 6-13-25; 8:45 am]

BILLING CODE 4163-18-P